GENERAL SERVICES ADMINISTRATION

[OMB Control No. 3090-XXXX; Docket No. 2022-0001; Sequence No. 12]

Submission for OMB Review; Generic Clearance for the Collection of the Mission-Support Customer Satisfaction Survey

AGENCY: Office of Shared Services and Performance Improvement, Office of Government-wide Policy, General Services Administration (GSA).

ACTION: Notice of request for comments regarding a new request for an OMB clearance.

SUMMARY: GSA is coordinating the development of the following proposed Generic Information Collection Request (Generic ICR): “Generic Clearance for the Collection of the Mission-Support Customer Satisfaction Survey” for approval under the Paperwork Reduction Act. This notice announces that GSA intends to submit this new collection to the Office of Management and Budget (OMB) for approval and will solicit comments on specific aspects for the proposed information collection.

DATES: Submit comments on or before January 3, 2023.

ADDRESSES: Written comments and recommendations for this information collection should be sent within 30 days of publication of this notice to www.reginfo.gov/public/do/PRAMain. Find this particular information collection by selecting “Currently under Review—Open for Public Comments”; or by using the search function.

FOR FURTHER INFORMATION CONTACT: Trey Bradley, Program Director, Strategic Data Initiatives, Organization, at telephone 202-716-6410 or via email to trey.bradley@gsa.gov.

SUPPLEMENTARY INFORMATION:

A. Purpose

The Mission-Support Customer Satisfaction Survey (CSS) is an annual survey led by the Office of Management and Budget (OMB) and managed by the General Services Administration (GSA). The CSS began in 2015 as part of the Obama Administration's President's Management Agenda (PMA).

The CSS asks Federal employees to rate how satisfied they are with mission-support functions and services, how important specific mission-support services are to achieving mission outcomes, and whether a function serves as an effective strategic partner. Employees are asked to rate their perception of satisfaction, importance, and strategic partnership for 24 service areas on a seven-point Likert Scale within the following four support functions (functions are in bold):

Contracting: Pre-Award Activities; Contract Administration; Purchase Card Management.

Finance: Budget Formulation; Budget Execution; Financial Management Information & Analysis; Bill Payments; Bill Collections; Financial Risk Management.

Human Capital: Recruiting & Hiring; Training & Development; Work/Life Support; Employee Relations; Labor Relations; Performance & Recognition Management; Workforce Planning & Succession; Time & Attendance Management; Benefits Management; Retirement Planning & Processing.

Information Technology: IT Support; IT Communications & Collaboration; IT Equipment; Operations & Maintenance (O&M); Development, Modernization & Enhancement (DM&E).

The CSS is an annual, non-mandatory survey typically sent in early spring to all federal civilian employees at the 24 CFO Act Agencies.

The survey is distributed through email and responses are collected through an online survey platform. Each email sent contains a unique link to take the survey. Email contacts are obtained through the Office of Personnel Management's (OPM) Enterprise Human Resources Integration-Statistical Data Mart (EHRI-SDM). The EHRI-SDM is an information system that supports statistical analyses of federal personnel management programs. Agencies submit data from their personnel systems to the EHRI-SDM.

Agencies may choose to supplement or edit the EHRI-SDM email list for the purposes of this survey.

Survey reminders are sent once per week to those who have not yet taken the survey starting 7 days after the initial launch date until the closing of the survey. The survey is typically open for 6 to 8 weeks.

Individual survey responses are tracked for completeness so that reminders are sent only to those who have not yet taken the survey.

This is a confidential survey. To prevent identification of individual respondents, average satisfaction scores are excluded where the number of responses is fewer than 10. Once the survey is closed, all personal identifiable information (PII) is stripped from the data to protect privacy.

Survey participants only answered questions related to functions or services they had interaction within the previous year.

The response rate from year to year is approximately 20%.

Survey participants are allowed to opt out or choose not to take the survey.

The CSS is 508 compliant.

The CSS data is used by the Federal Government for three primary reasons:

• To provide a significant measure for quality of service provided, so that agencies can evaluate functional performance on quality as well as cost.

• To allow agencies to compare their performance to other agencies at the agency and bureau level.

• To provide the center of government a valuable data set to analyze and provide actionable insights for mission-support performance improvement.

Here are other specifics around how we plan to share the data:

• The items and the results of the items will be made publicly available for Federal agencies to assess their scores to identify areas for improvement;

• The general public, including researchers and the media, will also have access to this information;

• The collections are voluntary;

• Access to completed surveys will be limited to GSA and contractors who are involved in collecting and/or preparing the information for further analysis at OMB and distribution to other agencies:

• Information is only shared for the for the whole population and for certain subgroups. Neither federal agencies nor the public will receive data by subgroups that could be used to identify a specific individual or a person's specific response to a survey question.

The Agency has established a manager/managing entity to serve for this generic clearance and will conduct an independent review of each information collection to ensure compliance with the terms of this clearance prior to submitting each collection to OMB.

B. Annual Reporting Burden

Respondents: 300,100.

Responses per Respondent: 1.

Total Annual Responses: 1.

Hours per Response: 0.093 (338 seconds).

Total Burden Hours: 28,176.06.

C. Public Comments

A 60-day notice published in the Federal Register at 87 FR 39095 on June 30, 2022. No comments were received.

Obtaining Copies of Proposals: Requesters may obtain a copy of the information collection documents from the Regulatory Secretariat Division by calling 202-501-4755 or emailing GSARegSec@gsa.gov. Please cite OMB Control No. “3090-XXXX Generic Clearance for the Collection of the Mission-Support Customer Satisfaction Survey” in all correspondence.

Beth Anne Killoran,
Deputy Chief Information Officer.

[FR Doc. 2022-26286 Filed 12-1-22; 8:45 am]

BILLING CODE 6820-14-P